DEPARTMENT OF TRANSPORTATION

Maritime Administration

[Docket No. MARAD-2002-11719]

Information Collection Available for Public Comments and Recommendations

ACTION: Notice and request for comments.

SUMMARY: In accordance with the Paperwork Reduction Act of 1995, this notice announces the Maritime Administration's (MARAD's) intentions to request approval for three years of a new information collection titled, “Intermodal Access to Shallow Draft Ports and Terminals Survey.”

DATES: Comments should be submitted on or before May 6, 2002.

ADDRESSES: Comments: Comments should refer to the docket number that appears at the top of this document. Written comments may be submitted to the Docket Clerk, U.S. DOT Dockets, Room PL-401, 400 Seventh Street. SW., Washington, DC 20590. Comments may also be submitted by electronic means via the Internet at http://dmses.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. ET Monday through Friday, except Federal holidays. An electronic version of this document is available on the World Wide Web at http://dms.dot.gov.

FOR FURTHER INFORMATION CONTACT: Evie Chitwood, Maritime Administration, 400 Seventh Street, SW., Washington, DC 20590; telephone: 202-366-5127; FAX: 202-366-6988, or e-mail: evie.chitwood@marad.dot.gov. Copies of this collection can also be obtained from that office.

SUPPLEMENTARY INFORMATION: Title of Collection: Intermodal Access to Shallow Draft Ports and Terminals Survey.

Type of Request: Approval of a new information collection.

OMB Control Number: 2133-NEW.

Form Numbers: MA-1024B

Expiration Date of Approval: Three years from the date of approval.

Summary of Collection of Information. The Maritime Administration (MARAD) has primary responsibility for ensuring the availability of efficient water transportation service to shippers and consumers. This information collection is designed to be a survey of critical infrastructure issues that impact the Nation's shallow draft marine ports and terminals. The survey will provide MARAD with key road, rail, and waterside access data as well as security information and highlight the issues that affect the flow of cargo through U.S. shallow draft marine ports and terminals.

Need and Use of the Information: This collection will allow MARAD to assess the magnitude and nature of impediments to efficient intermodal connections to shallow draft marine ports and terminals and provide information on correcting deficiencies.

Description of Respondents: Officials at the Nation's key shallow draft marine ports and terminals.

Annual Responses: 45

Annual Burden: 22.5 hours

Dated: March 1, 2002.
By Order of the Maritime Administrator.
Joel C. Richard,
Secretary, Maritime Administration.

[FR Doc. 02-5342 Filed 3-5-02; 8:45 am]

BILLING CODE 4910-81-P